DEPARTMENT OF COMMERCE

International Trade Administration

[A-552-801]

Certain Frozen Fish Fillets from the Socialist Republic of Vietnam: Extension of Time Limit for Final Results of the Fifth New Shipper Review

AGENCY: Import Administration, International Trade Administration, Department of Commerce.

DATES: Effective Date: May 11, 2010.

FOR FURTHER INFORMATION CONTACT: Javier Barrientos, AD/CVD Operations, Office 9, Import Administration, International Trade Administration, U.S. Department of Commerce, 14th Street and Constitution Avenue, N.W., Washington, DC 20230; telephone: (202) 482-2243.

SUPPLEMENTARY INFORMATION:

Background

On January 19, 2010, the Department of Commerce (“Department”) issued the preliminary results of the fifth new shipper review for the period August 1, 2008, through January 31, 2009. See Certain Frozen Fish Fillets From the Socialist Republic of Vietnam: Preliminary Results of New Shipper Review, 75 FR 4350 (January 29, 2010) (“Preliminary Results”). On February 12, 2010, the Department tolled administrative deadlines, including in the instant review, by one calendar week. See Tolling of Administrative Deadlines As a Result of the Government Closure during the Recent Snowstorm, dated February 12, 2010 (“Tolling Memo”). On February 16, 2010, the Department extended the deadlines for submission of surrogate value data, surrogate value rebuttal comments, case and rebuttal briefs. See Memorandum to the File, from Javier Barrientos, Senior Case Analyst, Certain Frozen Fish Fillets from the Socialist Republic of Vietnam, dated February 16, 2010. On March 4, 2010, the Department extended the deadlines for submission of case and rebuttal briefs. See Memorandum to the File, from Javier Barrientos, Senior Case Analyst, Certain Frozen Fish Fillets from the Socialist Republic of Vietnam, dated March 4, 2010. The final results are currently due on April 26, 2010 (inclusive of the seven day extension per the Tolling Memo).

Extension of Time Limits for Final Results

Section 751(a)(2)(B)(iv) of the Tariff Act of 1930, as amended (“Act”), and 19 CFR 351.214(i)(1) require the Department to issue the final results in a new shipper review of an antidumping duty order 90 days after the date on which the preliminary results are issued. The Department may, however, extend the deadline for completion of the final results of a new shipper review to 150 days if it determines that the case is extraordinarily complicated. See section 751(a)(2)(B)(iv) of the Act and 19 CFR 351.214(i)(2).

The Department determines that this new shipper review involves extraordinarily complicated methodological issues and is extending the deadline because it needs more time to analyze additional data placed on the record following the Preliminary Results. This additional data presents a number of complex factual and legal questions with regard to issues of surrogate country selection and the surrogate value of whole fish. Thus, the Department requires additional time to analyze these data and address these circumstances in these reviews.

Accordingly, because the Department requires additional time to complete the final results, we are extending the time for the completion of the final results of this review by 30 days, from the date of the presently tolled due date of April 26, 2010, to May 26, 2010.

This notice is published in accordance with section 751(a)(2)(B)(iv) of the Act and 19 CFR 351.214(i)(2).

Dated: April 26, 2010.
Edward C. Yang,
Acting Deputy Assistant Secretary for Antidumping and Countervailing Duty Operations.

[FR Doc. 2010-11165 Filed 5-10-10; 8:45 am]

BILLING CODE 3510-DS-S